DEPARTMENT OF COMMERCE

International Trade Administration

[A-122-814]

Pure Magnesium from Canada; Final Results of Antidumping Duty Administrative Review and Determination Not to Revoke Order in Part

AGENCY: Import Administration, International Trade Administration, Department of Commerce.

ACTION: Notice of Final Results of 2000/2001 Administrative Review and Determination Not to Revoke Order in Part.

SUMMARY: On September 9, 2002, the Department of Commerce published the preliminary results of the administrative review of the antidumping duty order on pure magnesium from Canada. The period of review is August 1, 2000, through July 31, 2001. This review covers imports of pure magnesium from one producer/exporter. We gave interested parties an opportunity to comment on the preliminary results.

For our final results, we have found that sales of the subject merchandise have not been made below normal value. We will instruct the Customs Service not to assess antidumping duties on the subject merchandise exported by this company. Furthermore, we are not revoking the antidumping duty order with respect to pure magnesium from Canada produced by Norsk Hydro Canada, Inc.

EFFECTIVE DATE: January 14, 2003.

FOR FURTHER INFORMATION CONTACT: Jarrod Goldfeder or Scott Holland, Import Administration, International Trade Administration, U.S. Department of Commerce, 14th Street and Constitution Avenue, NW, Washington, DC 20230; telephone: (202) 482-0189 or (202) 482-1279, respectively.

SUPPLEMENTARY INFORMATION:

Background

Since the publication of the preliminary results in this review (see Pure Magnesium from Canada; Preliminary Results of Antidumping Duty Administrative Review, Partial Rescission of Review, and Notice of Intent Not to Revoke Order in Part, 67 FR 57217 (September 9, 2002) (“Preliminary Results”)), the following events have occurred:

On October 9, 2002, U.S. Magnesium LLC (“the petitioner”), filed a case brief.

Scope of the Order

The product covered by this order is pure magnesium. Pure unwrought magnesium contains at least 99.8 percent magnesium by weight and is sold in various slab and ingot forms and sizes. Granular and secondary magnesium are excluded from the scope currently classifiable under subheading 8104.11.0000 of the Harmonized Tariff Schedule (“HTS”). The HTS item number is provided for convenience and for customs purposes. The written description of the scope of the order remains dispositive.

Period of Review

The period of review (“POR”) is August 1, 2000, through July 31, 2001.

Determination Not to Revoke

The Department of Commerce (“the Department”) “may revoke, in whole or in part” an antidumping duty order upon completion of a review under section 751 of the Tariff Act of 1930, as amended (“the Act”). While Congress has not specified the procedures that the Department must follow in revoking an order, the Department has developed a procedure for revocation that is described in 19 CFR 351.222. This regulation requires, inter alia, that a company requesting revocation must submit the following: (1) A certification that the company has sold the subject merchandise at not less than normal value (“NV”) in the current review period and that the company will not sell at less than NV in the future; (2) a certification that the company sold the subject merchandise in each of the three years forming the basis of the request in commercial quantities; and (3) an agreement to reinstatement of the order if the Department concludes that the company, subsequent to the revocation, sold subject merchandise at less than NV. See 19 CFR 351.222(e)(1). Upon receipt of such a request, the Department may revoke an order, in part, if it concludes that (1) the company in question has sold subject merchandise at not less than NV for a period of at least three consecutive years; (2) the continued application of the antidumping duty order is not otherwise necessary to offset dumping; and (3) the company has agreed to its immediate reinstatement in the order if the Department concludes that the company, subsequent to the revocation, sold subject merchandise at less than NV. See 19 CFR 351.222(b)(2).

Pursuant to 19 CFR 351.222(e)(1), Norsk Hydro Canada Inc. (“NHCI”) requested revocation of the antidumping duty order. The request was accompanied by certifications that NHCI had not sold the subject merchandise at less than NV during the current period of review and would not do so in the future. NHCI also certified that it sold the subject merchandise to the United States in commercial quantities for a period of at least three consecutive years. Finally, NHCI agreed to immediate reinstatement of the antidumping duty order, as long as any exporter or producer is subject to the order, if the Department concludes that NHCI sold the subject merchandise at less than NV subsequent to the revocation.

We must determine, as a threshold matter, in accordance with 19 CFR 351.222(e)(1)(ii), whether the company requesting revocation sold the subject merchandise in commercial quantities in each of the three years forming the basis of the request. In our Preliminary Results, we determined that NHCI did not sell the subject merchandise in the United States in commercial quantities during the POR. See Preliminary Results 67 FR at 57219; see also the Memorandum from Team to Richard W. Moreland, “Commercial Quantities,” dated September 3, 2002, for a discussion of NHCI's selling activity.

After consideration of the comments that were submitted in response to the Preliminary Results, we continue to find that NHCI did not sell the subject merchandise in the United States in commercial quantities during at least one of the three years cited by NHCI to support its request for revocation. Further, since the Preliminary Results, no facts have arisen to change the Department's decision. See “Issues and Decision Memorandum for the 2000/2001 Administrative Review of Pure Magnesium from Canada; Final Results” from Susan Kuhbach, Acting Deputy Assistant Secretary AD/CVD Enforcement Group I, Import Administration, to Faryar Shirzad, Assistant Secretary Import Administration, dated January 7, 2003 (“Decision Memorandum”). Therefore, we continue to find that NHCI does not qualify for revocation of the order on pure magnesium under 19 CFR 351.222(e)(1)(ii).

Fair Value Comparisons

To determine whether sales of pure magnesium from Canada to the United States were made at less than normal value, we compared export price (“EP”) to NV. Our calculations followed the methodologies described in the Preliminary Results.

Changes from the Preliminary Results

We calculated EP and NV based on the same methodologies described in the Preliminary Results.

Analysis of Comments Received

The sole issue raised in the case brief in this administrative review is addressed in the Decision Memorandum, which is hereby adopted by this notice. A list identifying the issue which the petitioner has raised and to which we have responded in the Decision Memorandum is attached to this notice as an Appendix. Parties can find a complete discussion of the issue raised in this review and the corresponding recommendation in this Decision Memorandum, which is on file in the Central Records Unit, room B-099 of the main Department of Commerce building. In addition, a complete version of the Decision Memorandum can be accessed directly on the Web at http://ia.ita.doc.gov/frn/frnhome.htm. The paper copy and electronic version of the Decision Memorandum are identical in content.

Final Results of the Review

As a result of this review, we determine that the following percentage weighted-average margin exists for the period August 1, 2000, through July 31, 2001:

Manufacturer/Exporter | Margin
Norsk Hydro Canada Inc. | Zero

Assessment Rates

In accordance with 19 CFR 351.212(b)(1), we have calculated importer (or customer)-specific assessment rates for the merchandise subject to this review. To determine whether the duty assessment rates were de minimis, in accordance with the requirement set forth in 19 CFR 351.106(c)(2), we calculated importer (or customer)-specific ad valorem rates by aggregating the dumping margins calculated for all U.S. sales to that importer (or customer) and dividing this amount by the total value of the sales to that importer (or customer). Where an importer (or customer)-specific ad valorem rate was greater than de minimis, we will direct the Customs Service to apply the assessment rates against each of the importer's/customer's entries during the review period. Where an importer (or customer)-specific ad valorem rate was less than de minimis, we will direct the Customs Service to liquidate without regard to antidumping duties.

All other entries of the subject merchandise during the POR will be liquidated at the antidumping duty rate in place at the time of entry.

The Department will issue appropriate assessment instructions directly to the Customs Service within 15 days of publication of these final results of review.

Cash Deposit Requirements

The following cash deposit requirements will be effective for all shipments of the subject merchandise entered, or withdrawn from warehouse, for consumption on or after the publication date of the final results of this administrative review, as provided by section 751(a)(1) of the Act: (1) the cash deposit rate for NHCI will be zero; (2) for previously reviewed or investigated companies not listed above, the cash deposit rate will continue to be the company-specific rate published for the most recent period; (3) if the exporter is not a firm covered in this review, a prior review, or the original less than fair value investigation, but the manufacturer is, the cash deposit rate will be the rate established for the most recent period for the manufacturer of the merchandise; and (4) the cash deposit rate for all other manufacturers or exporters will continue to be 21.00 percent, the “All Others” rate made effective by the less-than-fair-value investigation. These requirements, when imposed, shall remain in effect until publication of the final results of the next administrative review.

This notice also serves as the only reminder to parties subject to the administrative protective order (“APO”) of their responsibility concerning the disposition of proprietary information disclosed under APO in accordance with 19 CFR 351.305(a)(3). Timely written notification of return/destruction of APO material or conversion to judicial protective order is hereby requested. Failure to comply with the regulation and the terms of an APO is a sanctionable violation.

This administrative review and notice are published in accordance with sections 751(a)(1) and 771(i) of the Act.

Dated: January 7, 2003.
Faryar Shirzad,
Assistant Secretary for Import Administration.

Appendix I

List of Comments in the Issues and Decision Memorandum

Comment 1: Commercial Quantities Benchmark

[FR Doc. 03-727 Filed 1-13-03; 8:45 am]

BILLING CODE 3510-DS-S